DEPARTMENT OF THE INTERIOR

Office of Surface Mining Reclamation and Enforcement

[S1D1S SS08011000 SX064A000 190S180110; S2D2S SS08011000 SX064A000 19XS501520; OMB Control Number 1029-0117]

Agency Information Collection Activities: Permit Applications—Minimum Requirements for Legal, Financial, Compliance, and Related Information

AGENCY: Office of Surface Mining Reclamation and Enforcement, Interior.

ACTION: Notice of information collection; request for comment.

SUMMARY: In accordance with the Paperwork Reduction Act of 1995, we, the Office of Surface Mining Reclamation and Enforcement (OSMRE), are announcing our intention to request renewed approval from the Office of Management and Budget (OMB) to continue collecting information for Permit Applications—Minimum Requirements for Legal, Financial, Compliance, and Related Information. The information collection request describes the nature of the information collection and its expected burden and cost.

DATES: Interested persons are invited to submit comments on or before January 14, 2019.

ADDRESSES: Send written comments on this information collection request (ICR) to the Office of Management and Budget's Desk Officer for the Department of the Interior by email at OIRA_Submission@omb.eop.gov; or via facsimile to (202) 395-5806. Please provide a copy of your comments to Harry Payne, Office of Surface Mining Reclamation and Enforcement, 1849 C Street NW, Mail Stop 4557, Washington, DC 20240; or by email to HPayne@osmre.gov. Please reference OMB Control Number 1029-0117 in the subject line of your comments.

FOR FURTHER INFORMATION CONTACT: To request additional information about this ICR, contact Harry Payne by email at HPayne@osmre.gov, or by telephone at (202) 208-2895. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provides the requested data in the desired format.

A Federal Register notice with a 60-day public comment period soliciting comments on this collection of information was published on September 5, 2018 (83 FR 45139). No comments were received.

We are again soliciting comments on the proposed ICR that is described below. We are especially interested in public comment addressing the following issues: (1) Is the collection necessary to the proper functions of OSMRE; (2) is the estimate of burden accurate; (3) how might OSMRE enhance the quality, utility, and clarity of the information to be collected; and (4) how might OSMRE minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Title of Collection: 30 CFR part 778—Permit Applications—Minimum Requirements for Legal, Financial, Compliance, and Related Information.

OMB Control Number: 1029-0117.

Abstract: This collection of information is authorized by Section 507(b) of Public Law 95-87 which provides that persons conducting coal mining activities submit to the regulatory authority all relevant information regarding ownership and control of the mining company, their compliance status and history, and authority to mine the property. This information is used to insure all legal, financial and compliance requirements are satisfied prior to issuance or denial of a permit.

Form Number: None.

Type of Review: Extension of a currently approved collection.

Respondents/Affected Public: Coal mine operators and State regulatory authorities.

Total Estimated Number of Annual Respondents: 177 Coal mine operators and 24 State regulatory authorities.

Total Estimated Number of Annual Responses: 1,194 Coal mine operator responses and 491 State regulatory authority responses.

Estimated Completion Time per Response: Varies from 1 to 9 hours per response from Coal mine operators, and 1 to 3 hours for State regulatory authorities, depending on collection activity.

Total Estimated Number of Annual Burden Hours: 4,670 hours.

Respondent's Obligation: Required to obtain or retain a benefit.

Frequency of Collection: Once.

Total Estimated Annual Nonhour Burden Cost: $0.

An agency may not conduct or sponsor and a person is not required to respond to a collection of information unless it displays a currently valid OMB control number.

Authority: The authorities for this action are the Surface Mining Control and Reclamation Act of 1977, as amended (30 U.S.C. 1201 et seq.), and the Paperwork Reduction Act of 1995 (44 U.S.C. 3501 et seq.).

John A. Trelease,
Acting Chief, Division of Regulatory Support.

[FR Doc. 2018-26965 Filed 12-12-18; 8:45 am]

BILLING CODE 4310-05-P